DEPARTMENT OF COMMERCE

International Trade Administration

[A-570-891]

Hand Trucks and Certain Parts Thereof From the People's Republic of China: Notice of Postponement of Preliminary Antidumping Duty Determination

AGENCY: Import Administration, International Trade Administration, Department of Commerce.

ACTION: Notice of postponement of preliminary antidumping duty determination in an antidumping investigation.

SUMMARY: The Department of Commerce is postponing the preliminary determination in the antidumping investigation of hand trucks and certain parts thereof from the People's Republic of China from April 21, 2004 until no later than May 17, 2004. This postponement is made pursuant to section 733(c)(1)(B) of the Tariff Act of 1930, as amended.

EFFECTIVE DATE: April 12, 2004.

FOR FURTHER INFORMATION CONTACT: Audrey Twyman, or John Brinkmann, Import Administration, International Trade Administration, U.S. Department of Commerce, 14th Street and Constitution Avenue, NW., Washington, DC 20230; telephone: (202) 482-3534, or (202) 482-4126, respectively.

SUPPLEMENTARY INFORMATION:

Statutory Time Limits

Sections 733(b)(1)(A) and 735(a)(1) of the Tariff Act of 1930, as amended (“the Act”), require the Department of Commerce (“Department”) to issue the preliminary determination in an antidumping investigation within 140 days after the date on which the Department initiates an investigation, and a final determination within 75 days after the date of its preliminary determination. However, if it is not practicable to complete the investigation within the time period, sections 733(c)(1) and 735(a)(2) of the Act allow the Department to extend these deadlines to a maximum of 190 days and 135 days, respectively.

Background

On December 9, 2003, the Department published in the Federal Register the notice of initiation of the antidumping investigation on hand trucks and certain parts thereof from the People's Republic of China (“PRC”). (See Notice of Initiation of Antidumping Duty Investigation: Hand Trucks and Certain Parts Thereof From the People's Republic of China, 68 FR 68591). The preliminary determination is currently due no later than April 21, 2004.

Extension of Time Limits for Preliminary Determination

Under section 733(c)(1)(B) of the Act, the Department can extend the period for reaching a preliminary determination until not later than the 190th day after the date on which the administering authority initiates an investigation if the Department concludes that the parties concerned are cooperating and determines that: (i) The case is extraordinarily complicated by reason of (I) the number and complexity of the transactions to be investigated or adjustments to be considered, (II) the novelty of the issues presented, or (III) the number of firms whose activities must be investigated, and (ii) additional time is necessary to make the preliminary determination.

We have concluded that the statutory criteria for postponing the preliminary determination have been met. Specifically, the parties concerned are cooperating in this investigation. Furthermore, additional time is necessary to complete the preliminary determination due to the large variety of factor of production inputs and the need to develop surrogate value information for these inputs. Also, additional time is needed to address novel issues that have been raised in this investigation.

Pursuant to section 733(c)(1)(B) of the Act, we have determined that this investigation is “extraordinarily complicated” and additional time is necessary. We are, therefore, postponing the preliminary determination by 26 days to May 17, 2004.

This notice is issued and published pursuant to section 733(c)(2) of the Act and 19 CFR 351.205(f)(1).

Dated: April 6, 2004.
James J. Jochum,
Assistant Secretary for Import Administration.

[FR Doc. 04-8244 Filed 4-9-04; 8:45 am]

BILLING CODE 3510-DS-P